CONSUMER FINANCIAL PROTECTION BUREAU

12 CFR Part 1090

[Docket No. CFPB-2025-0025]

RIN 3170-AB53

Defining Larger Participants of the International Money Transfer Market

AGENCY: Consumer Financial Protection Bureau.

ACTION: Advance notice of proposed rulemaking.

SUMMARY: The Consumer Financial Protection Bureau (CFPB or Bureau) is seeking information to assist it in considering whether to propose a rule to amend the test to define larger participants in the international money transfer market established by the Bureau's Defining Larger Participants of the International Money Transfer Market Final Rule published on September 9, 2014 (International Money Transfer Larger Participant Rule or 2014 Rule).

DATES: Comments must be received on or before September 22, 2025.

ADDRESSES: You may submit responsive information and other comments, identified by Docket No. CFPB-2025-0025, by any of the following methods:

• Federal eRulemaking Portal: https://www.regulations.gov. Follow the instructions for submitting comments.

• Email: 2025-ANPR-InternationalMoneyTransfer@cfpb.gov. Include Docket No. CFPB-2025-0025 in the subject line of the message.

• Mail/Hand Delivery/Courier: Comment Intake—Defining Larger Participants of the International Money Transfer Market 2025, c/o Legal Division Docket Manager, Consumer Financial Protection Bureau, 1700 G Street NW, Washington, DC 20552.

Instructions: The CFPB encourages the early submission of comments. All submissions should include the agency name and docket number. Additionally, where the Bureau has asked for specific comment on a topic, commenters should seek to highlight the topic to which their comment is applicable. Because paper mail is subject to delay, commenters are encouraged to submit comments electronically. In general, all comments received will be posted without change to https://www.regulations.gov. All submissions, including attachments and other supporting materials, will become part of the public record and subject to public disclosure. Proprietary information or sensitive personal information, such as account numbers or Social Security numbers, or names of other individuals, should not be included. Submissions will not be edited to remove any identifying or contact information.

FOR FURTHER INFORMATION CONTACT: Dave Gettler, Paralegal, Office of Regulations, at 202-435-7380. If you require this document in an alternative electronic format, please contact CFPB_Accessibility@cfpb.gov.

SUPPLEMENTARY INFORMATION: The Bureau is seeking information to consider whether to propose a rule to amend the test which defines larger participants in the international money transfer market. Currently, a nonbank covered person is a larger participant of the international money transfer market if the nonbank covered person has at least one million aggregate annual international money transfers. The Bureau is concerned that the benefits of the current threshold may not justify the compliance burdens for many of the entities that are currently considered larger participants in this market, and that the current threshold may be diverting limited Bureau resources to determine whom among the universe of providers may be subject to the Bureau's supervisory authority and whether these providers should be examined in a particular year.

I. Background

Section 1024 of the Consumer Financial Protection Act of 2010 (CFPA),¹ codified at 12 U.S.C. 5514, gives the Bureau supervisory authority over all nonbank covered persons ² offering or providing three enumerated types of consumer financial products or services: (1) origination, brokerage, or servicing of consumer loans secured by real estate and related mortgage loan modification or foreclosure relief services; (2) private education loans; and (3) payday loans.³ The Bureau also has supervisory authority over “larger participant[s] of a market for other consumer financial products or services, as defined by rule[s]” the Bureau issues.⁴ To date, the Bureau has issued six rules defining larger participants of markets for consumer financial products and services for purposes of CFPA section 1024(a)(1)(B).⁵

¹ Consumer Financial Protection Act of 2010, Title X of the Dodd-Frank Wall Street Reform and Consumer Protection Act, Public Law 111-203, 124 Stat. 1376, 1955 (2010).

² The provisions of 12 U.S.C. 5514 apply to certain categories of covered persons, described in section (a)(1), and expressly excludes from coverage persons described in 12 U.S.C. 5515(a) (very large insured depository institutions and credit unions and their affiliates) or 5516(a) (other insured depository institutions and credit unions). The term “covered person” means “(A) any person that engages in offering or providing a consumer financial product or service; and (B) any affiliate of a person described [in (A)] if such affiliate acts as a service provider to such person.” 12 U.S.C. 5481(6).

³ 12 U.S.C. 5514(a)(1)(A), (D), (E).

⁴ 12 U.S.C. 5514(a)(1)(B), (a)(2); see also 12 U.S.C. 5481(5) (defining “consumer financial product or service”).

⁵ These six rules defined larger participants of markets for consumer reporting, 77 FR 42874 (July 20, 2012) (Consumer Reporting Rule), consumer debt collection, 77 FR 65775 (Oct. 31, 2012) (Consumer Debt Collection Rule), student loan servicing, 78 FR 73383 (Dec. 6, 2013) (Student Loan Servicing Rule), international money transfers, 79 FR 56631 (Sept. 23, 2014) (International Money Transfer Rule), automobile financing, 80 FR 37496 (June 30, 2015) (Automobile Financing Rule), and general-use digital consumer payment applications, 89 FR 99582 (Dec. 10, 2024) (General-Use Digital Payment Applications Rule). The Bureau is issuing advance notices of proposed rulemakings to reconsider the test for defining larger participants in the consumer reporting, debt collection, international money transfer, and automobile financing markets. The Bureau will continue to assess whether it is appropriate to reconsider the test for the student loan servicing market. The General-Use Digital Payment Applications Rule was made ineffective by a joint resolution of disapproval by Congress under the Congressional Review Act. S.J. Res. 28—119th Congress (2025-2026), Public Law 119-11; see also 5 U.S.C. 801 et seq.

Background on International Money Transfers

Consumers generally make international money transfers through nonbank money transfer providers, depository institutions, or credit unions. Many international money transfers operate through closed networks, receiving and disbursing funds through their own outlets or through agents such as grocery stores, neighborhood convenience stores, or depository institutions. For an international money transfer conducted through a money transfer provider, a consumer typically provides basic identifying information about himself and the recipient and often pays cash sufficient to cover the transfer amount and any fees charged by the provider. The consumer may be provided a confirmation code, which the consumer relays to the recipient. The money transfer provider sends an instruction to a specified payout location or locations in the recipient's country where the recipient may pick up the transferred funds, often in cash and local currency, upon presentation of the confirmation code or other identification on or after a specified date. These transfers generally are referred to as cash-to-cash transfers.

Many international money transfer providers also provide international money transfers in other ways. For example, international money transfer providers may permit transfers to be initiated using credit cards, debit cards, or bank account debits and may use websites, agent locations, standalone kiosks, or telephone lines to do so. Abroad, international money transfer providers and their partners may allow funds to be deposited into recipients' bank accounts, distributed directly onto prepaid cards, or credited to mobile phone accounts.

The Remittance Rule, which took effect October 28, 2013, implements subpart B of the Electronic Fund Transfer Act (EFTA).⁶ Amendments to EFTA and the implementing Remittance Rule created Federal consumer protections for remittance transfers that consumers in the United States send to individuals and businesses in foreign countries. The Remittance Rule applies to any institutions that send remittance transfers in the normal course of their business, including banks, credit unions, money transmitters, broker-dealers, and others. The Bureau and prudential regulators can examine depository institutions and credit unions within their supervisory authority for compliance with the Remittance Rule.

⁶ 77 FR 6194 (Feb. 7, 2012); 77 FR 40459 (July 10, 2012); 77 FR 50244 (Aug. 20, 2012); 78 FR 6025 (Jan. 29, 2013); 78 FR 30662 (May 22, 2013); 78 FR 49365 (Aug. 14, 2013) (codified at 12 CFR part 1005, subpart B). See also 12 U.S.C. 1693o-1 (specifying rules to be issued by the CFPB). EFTA applies to all electronic money transfers more broadly through subpart A of Reg. E.

The Bureau's International Money Transfer Larger Participant Rule Defining the Market

The Bureau published the International Money Transfer Larger Participant Rule on September 23, 2014.⁷ The final rule defined an international money transfer market that covers certain electronic transfers of funds sent by nonbanks that are international money transfer providers and established that nonbank covered persons with at least one million aggregate annual international money transfers are larger participants.⁸

⁷ 12 CFR 1090.107; 79 FR 56631 (Sept. 23, 2014).

⁸ The Bureau also has enforcement authority over nonbank remittance providers. 12 U.S.C. 5561 et seq.

International money transfers are electronic transfers of funds sent by nonbank covered persons from consumers in the United States to persons or entities abroad.⁹ This definition tracks the Bureau's definition of “remittance transfer,” except in two respects. First, the definition substitutes “international money transfer provider” in each place where the term “remittance transfer provider” appears in 12 CFR 1005.30(e). Second, the International Money Transfer Larger Participant Rule defines “international money transfer” without regard to the amount of the transfer, unlike the Remittance Rule, which excludes transfers of $15 or less from the definition of “remittance transfer.” ¹⁰

⁹ Similar services are provided by depository institutions and credit unions, including those subject to the Bureau's supervisory authority under 12 U.S.C. 5515.

¹⁰ 12 CFR 1005.30(e)(2)(i).

Nonbank entities provide a significant portion of the transactions to which the Remittance Rule applies. In promulgating the International Money Transfer Larger Participant Rule, the Bureau found that supervision of larger participants of the international money transfer market would help to ensure that these nonbank entities are complying with the consumer protections afforded by EFTA as implemented by the Remittance Rule, as well as with other applicable requirements of Federal consumer financial law.¹¹ The Bureau lacked precise data on the international money transfer market and did not receive comments that provided detailed information about the market. However, available data sources, including public information and confidential State supervisory data provided by three States, enabled the Bureau to conduct analyses during the proposal stage to gain a general understanding of the market. The Bureau did not receive any comments questioning or criticizing these analyses.¹²

¹¹ 79 FR 56631 at 56634.

¹² Id. at 56634-35.

Larger Participant Test in the 2014 Rule

Under the 2014 rule, a nonbank covered person qualifies as a larger participant in this market if it satisfies the following test: it has at least 1,000,000 aggregate annual international money transfers.¹³ Based on the Bureau's analysis of data that State regulators collected from the fourth quarter of 2023 through the third quarter of 2024, approximately 28 nonbank covered persons currently meet the test under this rule.¹⁴

¹³ The 2014 rule also estimated that this test may result in at least some—albeit a relatively small number—small entities qualifying as larger participants. 79 FR 56631 at 56649 (estimating “less than one percent” of small businesses in the international money transfer market may qualify as larger participants under the test).

¹⁴ The estimates of market participants and market share are preliminary and are based on limited data. Further, as noted, some of the data sources the CFPB relied upon may be overinclusive by including certain payments that are not within the defined market, such as certain business-to-business or business-to-consumer payments. These estimates may change in any future rulemakings.

In the Bureau's 2014 International Money Transfer Larger Participant Rule, the Bureau acknowledged that it was not aware of a data source where institutions report their total number of international money transfers in a manner that is totally consistent with the definition of the larger participant market. This limitation is also true now. For example, while State regulators collect certain data about money transfers, none of the standardized data sets obtained from the States distinguish between transfers initiated by consumers and those initiated by businesses. Yet business-initiated international transfers do not count towards the million-transfer threshold.

Reasons for a Potential Reconsideration of the Larger Participant Test for the International Money Transfer Market

The Bureau is concerned that the benefits of supervisory authority over nonbank covered persons with at least 1,000,000 aggregate annual international money transfers may not exceed the costs of increased compliance burdens for many entities that are considered larger participants under the current test. The Bureau also notes that the market for international money transfers provided by nonbank covered persons is heavily concentrated. According to the data described above, the largest eight non-depository financial institutions by transfer volume conducted approximately 77 percent of estimated remittance transfers. This concentration supports the fact that a higher threshold might better balance the goals of protecting consumers while also not unnecessarily imposing costs on covered persons. The Bureau further is concerned that smaller international money transfer providers who may be considered larger participants are being disproportionately impacted by the current threshold.

The Bureau is also concerned that the number of larger participants in the international money transfer market subject to supervision may be too large and is potentially diverting limited Bureau resources to determine whom among smaller providers may be subject to the Bureau's supervisory authority and whether these providers should be examined in a particular year. The Bureau therefore seeks comment on the topics and questions listed below in light of the Bureau's intent to propose amending the test to define larger participants in the international money transfer market.

By raising the threshold for the test to define larger participants in the international money transfer market, the Bureau could focus its supervisory oversight on the market participants that send the greatest number of transfers and, therefore, likely interact with the largest numbers of consumers. For example, the Bureau's current threshold of 1,000,000 international money transfers per year covers approximately 28 nonbank providers and these providers provide an estimated 98 percent of all international money transfers. If the Bureau raises the threshold to 10,000,000 international money transfers per year, the Bureau preliminarily estimates that approximately 15 nonbank covered persons would qualify as larger participants and that they provide an estimated 94 percent of all international money transfers. As another option, if the Bureau raises the threshold to 30,000,000 international money transfers, we preliminarily estimate that approximately eight nonbank covered persons would qualify as larger participants and that they provide an estimated 77 percent of all international money transfers. A third option would be to raise the threshold to 50,000,000 international money transfers. The Bureau preliminarily estimates that approximately four nonbank covered persons would qualify as larger participants and that they provide an estimated 61 percent of all international money transfers.

Since the Bureau began supervising larger participants in the international money transfer market, the market has increasingly involved online platforms, including mobile application-based platforms. Using any one of these thresholds, the Bureau would cover both online and in-person remittance transfer providers.

II. Executive Order 12866

The Office of Information and Regulatory Affairs within the Office of Management and Budget (OMB) has determined that this action is a “significant regulatory action” under Executive Order 12866, as amended. Accordingly, OMB has reviewed this action.

III. Questions for Commenters

As discussed above, the Bureau is concerned that the benefits of supervisory authority over nonbank covered persons with one million aggregate annual international money transfers may not justify the costs of increased compliance burdens for many entities that are considered larger participants under the current test.¹⁵ The Bureau is particularly concerned that smaller money transfer providers that now qualify as larger participants are being disproportionately impacted by the current threshold. For example, the Small Business Administration (SBA) classifies a money transmission service (an illustrative example under NAICS Code 522390 ¹⁶) as a small business concern if its annual revenues are no more than $28.5 million.¹⁷ The CFPB's Remittance Rule Assessment found that the average remittance transfer from a money services business was $381 in 2017 and the cost to send was around 4 percent depending on the destination region.¹⁸ These data illustrate how an entity that provides between 1,000,000 and 1,870,078 international money transfers of an average size for 2017 would qualify as a larger participant based on the current threshold even though its revenue from that activity (at an average 4 percent fee) would fall below the SBA size threshold.

¹⁵ For a discussion of compliance burdens, see generally section IV.B of the International Money Transfer Larger Participant Rule (describing costs of increased compliance, costs of supervisory activity, and costs of assessing larger participant status). 79 FR 56631 at 56644-48.

¹⁶ See NAICS Code 2022 definitions, https://www.census.gov/naics/?input=522390&year=2022&details=522390.

¹⁷ See SBA Table of Small Business Size Standards at 26, https://www.sba.gov/document/support-table-size-standards.

¹⁸ Consumer Financial Protection Bureau, Remittance rule assessment report (April 24, 2019), at 68, 89, and 90, https://www.consumerfinance.gov/data-research/research-reports/remittance-rule-assessment-report/.

The Bureau is also concerned that the pool of entities subject to supervision may be too broad and is potentially diverting limited Bureau resources to determine who is a larger participant and whether those entities should be examined in a particular year.

The Bureau notes that it has not evaluated whether changes in the international money transfer market call for updating the test to define larger participants since it published the International Money Transfer Larger Participant Rule over ten years ago. The Bureau therefore seeks comment on the topics and questions listed below in light of the Bureau's intent to consider proposing to amend the test to define larger participants in the international money transfer market.

1. What additional sources of data, if any, are available that can reliably inform estimates of the current size of the international money transfer market, the participation in the market by nonbanks, banks, and credit unions, and the number of institutions that qualify as larger participants?

2. Should the Bureau consider defining larger participants in the international money transfer market in relation to the Small Business Administration's size standards? If so, how?

3. Should the Bureau reconsider the 1,000,000 annual aggregate money transfer threshold for qualifying as a larger participant in the international money transfer market? If so, what threshold and number of participants would allow the Bureau to effectively focus on the largest participants and efficiently use its resources?

4. Would an increase in the threshold have a potential disproportionate impact on any geographic corridors, and, if so, how?

5. Is annual aggregate international money transfers an appropriate criterion for determining which entities should be considered larger participants in the international money transfer market? If not, what alternative criteria (e.g., dollar value of international money transfers) and what threshold would be more appropriate and why?

6. How would consumers be impacted by a potential increase in the threshold? Submissions of data related to the benefits or costs to consumers of the current rule and any particular change to the threshold are encouraged.

7. How would changing the current threshold for larger participants alter the behavior of participants in the international money transfer market? How would these changes benefit or harm consumers and participants? Would those changes in behavior have impacts beyond this specific market?

8. How would changing the current threshold for larger participants affect the Bureau's ability to address potential market failures in the international money transfer market and related areas?

9. What are the costs to covered entities that are specific to the Bureau's supervisory authority for larger participants in the international money transfer market? Specific figures as to staffing, staff time, and other resources are encouraged. How often are these costs incurred for larger participants under the current rule who are close to the current threshold for being larger participants?

10. What are the costs to covered persons that are not specific to the Bureau's supervisory authority, but are specific to being a larger participant in the international money transfer market? For instance, are there costs of monitoring status as a large participant or costs related to complying with relevant Federal statutes and regulations beyond what the firm would find reasonable absent the possibility of supervision?

11. Are there costs to covered persons from the current larger participant rule that specifically apply to firms who transfer fewer international money transfers than the threshold, but are close to the threshold?

12. Are there costs or benefits to consumers, including rural consumers, servicemembers, and veterans, of raising the larger participant threshold?

13. Do small business concerns, as defined by the Small Business Administration, or other smaller- or mid-size entities qualify as larger participants under the current threshold? Do these entities incur costs of compliance with their larger participant status that are not in proportion to their size relative to other larger participants in the international money transfer market?

14. Are there significant recordkeeping requirements that would be reduced by raising the larger participant threshold?

15. What other specific costs or benefits, not mentioned above, would a change in the larger participant threshold have for consumers and covered persons?

Russell Vought,
Acting Director, Consumer Financial Protection Bureau.

[FR Doc. 2025-15090 Filed 8-7-25; 8:45 am]

BILLING CODE 4810-AM-P